DEPARTMENT OF ENERGY

Federal Energy Regulatory Commission

[Docket No. EC02-87-000]

Wisvest Corporation; Wisvest-Connecticut LLC; PSEG Fossil LLC; Notice of Filing

July 9, 2002.

Take notice that on June 28, 2002, Pursuant to Section 203 of the Federal Power Act (“FPA”), 16 U.S.C. 824b (2000), and Part 33 of the Commission's regulations thereunder, 18 CFR Part 33, Wisvest Corporation (Wisvest or Seller), Wisvest-Connecticut, LLC (Wisvest-Connecticut) and PSEG Fossil LLC (PSEG Fossil or Buyer) (together, the Applicants) filed an application with the Federal Energy Regulatory Commission (Commission) for approval to permit Wisvest to transfer and PSEG Fossil to acquire 100% of the membership interests Wisvest currently holds in Wisvest-Connecticut, a public utility subject to the Commission's jurisdiction under the FPA. The proposed transaction will result in PSEG Fossil indirectly acquiring control over Wisvest-Connecticut's two generating stations, a 553 MW coal and oil fired generating facility in Bridgeport, Connecticut and a 466 MW oil and gas-fired generating facility in New Haven, Connecticut, as well as associated jurisdictional facilities, wholesale power sales contracts and Wisvest-Connecticut's market-based rate schedule on file with the Commission.

PSEG Fossil is a new market entrant in New England that, together with its affiliates, owns only de minimis electric generation in New England, all of which is fully committed under long-term power sales agreements. The Applicants, therefore, request a shortened notice period and expedited Commission approval within 60 days of filing in order to achieve closing of the proposed transaction on or before October 1, 2002.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: July 19, 2002.

Linwood A. Watson, Jr.,
Deputy Secretary.

[FR Doc. 02-17721 Filed 7-12-02; 8:45 am]

BILLING CODE 6717-01-P